NATIONAL ARCHIVES AND RECORDS ADMINISTRATION

36 CFR Part 1280

[NARA-06-0005]

RIN 3095-AB55

Use of NARA Facilities

AGENCY: National Archives and Records Administration (NARA).

ACTION: Final rule.

SUMMARY: This final rule revises NARA's policy on the inspection of personal property in the possession of a contractor, employee, student intern, visitor, volunteer or other person on NARA properties. Because NARA's current regulations apply specifically only to visitors on NARA property, the final rule clarifies that all persons arriving on, working at, visiting, or departing from NARA property are subject to the inspection of their personal property. The final rule also amends NARA's current regulations to include additional properties under NARA control. This rule will affect members of the public, members of Federal agencies, NARA employees, NARA contract-employees and NARA volunteers.

DATES: Effective Date: Effective January 19, 2007.

FOR FURTHER INFORMATION CONTACT: Jeffrey Landou at 301-837-1899 or fax number 301-837-0293.

SUPPLEMENTARY INFORMATION: The proposed rule was published in the September 26, 2006, Federal Register (71 FR 56919) for a 60-day comment period. Notification of user groups occurred following publication of the proposed rule. NARA received no comments on the proposed rule and therefore is issuing the final rule with no changes.

This final rule is not a significant regulatory action for the purposes of Executive Order 12866 and has not been reviewed by the Office of Management and Budget. As required by the Regulatory Flexibility Act, I certify that this rule will not have a significant impact on a substantial number of small entities because the final rule affects NARA contractors, employees, student interns, visitors, volunteers and other persons on NARA controlled property. This regulation does not have any federalism implications. This rule is not a major rule as defined in 5 U.S.C. Chapter 8, Congressional Review of Agency Rulemaking.

List of Subjects in 36 CFR Part 1280

Archives and records.

For the reasons set forth in the preamble, NARA amends part 1280 of title 36, Code of Federal Regulations as follows:

PART 1280—USE OF NARA FACILITIES

1. The authority citation for part 1280 continues to read as follows:

Authority: 44 U.S.C. 2104(a).

2. Revise the heading for part 1280 to read as set forth above:

3. Amend § 1280.2 to add paragraphs (d), (e), and (f) to read as follows:

§ 1280.2 What property is under the control of the Archivist of the United States?

* * * * *

(d) The National Archives Southwest Region. The National Archives Southeast Region in Morrow, Georgia as specified in 36 CFR 1253.7 (e).

(e) The Federal Records Centers. The Federal Records Centers in Ellenwood, Georgia, and Riverside, California, as specified in 36 CFR 1253.6 (d) and (l), respectively.

(f) Additional Facilities. As other properties come under the control of the Archivist of the United States, they will be listed in these regulations as soon as practicable.

§§ 1280.4, 1280.6 and 1280.8 [Redesignated as §§ 1280.6, 1280.8 and 1280.4]

4. In Subpart A, redesignate §§ 1280.4, 1280.6 and 1280.8 as §§ 1280.6, 1280.8 and 1280.4, respectively.

5. Revise newly designated § 1280.4 to read as follows:

§ 1280.4 What items are subject to inspection by NARA?

NARA may, at its discretion, inspect the personal property in the possession of any NARA contractor, employee, student intern, visitor, volunteer, or other person arriving on, working at, visiting, or departing from NARA property.

Dated: December 13, 2006.
Allen Weinstein,
Archivist of the United States.

[FR Doc. E6-21682 Filed 12-19-06; 8:45 am]

BILLING CODE 7515-01-P